DEPARTMENT OF EDUCATION

[Docket No.: ED-2024-SCC-0096]

Agency Information Collection Activities; Comment Request; Federal Student Aid (FSA) Partner Connect System and User Access Management

AGENCY: Federal Student Aid (FSA), Department of Education (ED).

ACTION: Notice.

SUMMARY: In accordance with the Paperwork Reduction Act (PRA) of 1995, the Department is proposing a new information collection request (ICR).

DATES: Interested persons are invited to submit comments on or before September 30, 2024.

ADDRESSES: To access and review all the documents related to the information collection listed in this notice, please use http://www.regulations.gov by searching the Docket ID number ED-2024-SCC-0096. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Beth Grebeldinger, 202-570-8414.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Student Aid (FSA) Partner Connect System and User Access Management.

OMB Control Number: 1845-NEW.

Type of Review: A new ICR.

Respondents/Affected Public: Private Sector; State, Local, and Tribal Governments.

Total Estimated Number of Annual Responses: 48,600.

Total Estimated Number of Annual Burden Hours: 10,196.

Abstract: This is a request for a new information collection. Federal Student Aid (FSA) Partner Connect will be replacing Student Aid internet Gateway (SAIG) Enrollment via fsawebenroll.ed.gov. SAIG Mailboxes will remain as the access point for electronically transmitting and receiving data. FSA Partner Connect System and User Access Management allows authorized entities, including postsecondary educational institutions, institutional third-party servicers, guaranty agencies and guaranty agency (GA) servicers, Federal Family Education Loan Program (FFELP) lenders and lender servicers, federal loan servicers, and State Higher Education Agencies, to exchange data electronically with the U.S. Department of Education (Department). In order to participate, each entity must enroll for system and service access through FSA Partner Connect (fsapartners.ed.gov). The enrollment process enables the organization enrolling to create new users and select services to receive, submit, view, and/or update student financial aid data online and by batch using Department provided software EDconnect (PC-based software) or TDClient (client software for multiple environments). As authorized by the Higher Education Act of 1965, as amended (HEA); 20 U.S.C. 1070 et seq., and in order to manage the Title IV, HEA assistance programs, the entities listed above may electronically transmit and receive data from the following FSA systems through SAIG Mailboxes by enrolling through FSA Partner Connect:

Free Application for Federal Student Aid (FAFSA) Processing System (FPS)

Common Origination and Disbursement (COD) System

National Student Loan Data System (NSLDS) Online

Electronic Cohort Default Rate (eCDR) Appeals

Total and Permanent Disability (TPD) System

Digital Customer Care (DCC) Customer Relationship Management (CRM) Online

Access and Identity Management System (AIMS)

Financial Management System (FMS)

Additionally, entities may request access to eZ-Audit and the U.S. Department of Homeland Security's Systemic Alien Verification Entitlements (SAVE) Program through FSA Partner Connect to manage Title IV, HEA assistance programs.

Dated: July 25, 2024.
Kun Mullan,
PRA Coordinator, Strategic Collections and Clearance, Governance and Strategy Division, Office of Chief Data Officer, Office of Planning, Evaluation and Policy Development.

[FR Doc. 2024-16717 Filed 7-29-24; 8:45 am]

BILLING CODE 4000-01-P